DEPARTMENT OF TRANSPORTATION

National Highway Traffic Safety Administration

[Docket No. NHTSA 2000-8591; Notice 2]

Bridgestone/Firestone, Inc., Grant of Application for Decision That Noncompliance Is Inconsequential to Motor Vehicle Safety

Bridgestone/Firestone, Inc. (Firestone), has determined that approximately 33,000 P235/75R15 Widetrack Wintertrax tires produced in its Sao Paulo, Brazil plant and 1,400 P235/75R15 Lemans A/T tires produced in its Decatur, Illinois plant do not meet the labeling requirements mandated by Federal Motor Vehicle Safety Standard (FMVSS) No. 109, “New Pneumatic Tires.”

Pursuant to 49 U.S.C. 30118(d) and 30120(h), Firestone petitioned for a determination that the noncompliance, in each case, is inconsequential to motor vehicle safety and filed an appropriate report pursuant to 49 CFR part 573, “Defect and Noncompliance Reports.”

Notice of receipt of the application was published in the Federal Register, with a 30-day comment period, on Monday, January 22, 2001 (66 FR 6757). NHTSA received one comment on this application from Public Citizen, a consumer advocacy organization.

The 33,000 P235/75R15 Widetrack Wintertrax tires produced from April 2000 through October 2000, in the Sao Paulo, Brazil plant do not comply with paragraph S4.2.1(c), which specifies tire load ratings for the various tire sizes. According to Firestone, the maximum load rating is mislabeled on the affected tires. The actual marking was: Max Load 650 Kg (1433 lbs.) @ 300 Kpa (44 psi). The correct marking should have been: Max Load 920 Kg (2028 lbs.) @ 300 Kpa (44 psi). Paragraph S4.2.1 (c) essentially requires that the maximum load rating of a tire meet or exceed the maximum load rating for that particular tire size, which is published in designated documents. In the case of the P235/75R15 Widetrack Wintertrax tires, the maximum load molded into the tire is less than the published maximum load for tires of this size.

The Decatur plant produced 1,400 P235/75R15 Lemans A/T tires during DOT weeks 36, 37 and 38 of the year 2000 that do not comply with FMVSS No. 109, paragraph S4.3.4 (a), which specifies the maximum inflation pressure labeling requirements. The maximum inflation pressure (English units only) of the affected tires was mismarked on the sidewall opposite the DOT serial number. The DOT serial number is generally mounted on the inboard side of the tire away from the customer. The actual marking was 340 Kpa (41 psi) and the correct marking should have been 340 Kpa (50 psi).

The comment submitted to the docket by Public Citizen is a report entitled “Spinning Their Wheels: How Ford and Firestone Fail to Justify the Limited Tire Recall.” The report did not address the issues raised by Firestone in its application for decision of inconsequential noncompliance and was not a factor in the agency's decisions.

With regard to the 33,000 P235/75R15 Widetrack Wintertrax tires, the agency believes that the true measure of inconsequentiality to motor vehicle safety is the effect of the noncompliance on the operational safety of vehicles on which these tires are mounted. According to Firestone, the tires meet all other FMVSS No. 109 performance and labeling requirements. The maximum load rating molded into the tires is actually less than the correct load rating for the tires. Therefore, it is not likely that these tires would be placed in an unsafe, overload situation as a result of the noncompliant labeling. If consumers rely on the labeling, they will put far less of a load on the tire than it is capable of carrying. This presents no safety concern.

The agency considers the true measure of inconsequentiality with respect to the 1,400 P235/75R15 Lemans A/T tires to be the effect of the noncompliance on the operational safety of vehicles on which the tires are mounted. According to Firestone, these tires meet all other FMVSS No. 109 performance and labeling requirements. In this case, the tire maximum inflation pressure was mislabled in English units on one side of the tire, the side that is generally mounted outboard toward the customer. However, the maximum inflation pressure is correctly labeled in metric units on both sides of the tire. The correct maximum inflation pressure for these tires is greater than the mislabeled maximum inflation pressure. Therefore, it is not likely that the tires would be placed in an unsafe, over-inflated situation as a result of this noncompliance. With regard to under-inflation, a document in which tire and rim information is published entitled “Tire Guide, Complete Tire and Wheel Information for Cars and Trucks,” was reviewed. The correct tire inflation pressure data is the data provided by the manufacturer of the vehicle on which the tires are mounted. This information is provided in the owner's manual, on the vehicle certification label, and on the tire information label, if applicable. Based on the data in the document, an inflation pressure of 41 psi or less is recommended by vehicle manufacturers for P235/75R15 tires. Therefore, if consumers inflate these tires to the inflation pressure marked on the tires, 41 psi, the tires would not be under-inflated. Again, no adverse safety consequences result from this mislabeling.

In consideration of the foregoing, NHTSA has decided that the applicant has met the 1 burden of persuasion that the noncompliance with FMVSS No. 109, S4.2.1 and the noncompliance with FMVSS No. 109, S4.3.4, are inconsequential to motor vehicle safety. Accordingly, Firestone's application is granted and the applicant is exempted from providing the notification of the noncompliance that would be required by 49 U.S.C. 30118, and from remedying the noncompliance, as would be required by 49 U.S.C. 30120. (49 U.S.C. 301118, 301120; delegations of authority at 49 CFR 1.50 and 501.8)

Issued on: November 9, 2001.
Stephen R. Kratzke,
Associate Administrator for Safety Performance Standards.

[FR Doc. 01-28675 Filed 11-15-01; 8:45 am]

BILLING CODE 4910-59-P